GULF COAST ECOSYSTEM RESTORATION COUNCIL

[Docket No: 111042023-1111-02]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a Chairperson and a mix of State representatives and career senior executives that meet annually to review and evaluate performance appraisal documents and provide a written recommendation to the Chairperson of the Council for final approval of each executive's performance rating, performance-based pay adjustment, and performance award.

DATES: The board membership is applicable beginning on 1/01/2023 and ending on 12/31/23.

FOR FURTHER INFORMATION CONTACT: Mary S. Walker, Executive Director, Gulf Coast Ecosystem Restoration Council, telephone 504-210-9982 or email mary.walker@restorethegulf.gov.

SUPPLEMENTARY INFORMATION: In accordance with 5 U.S.C. 4314(c)(4), the persons named below have been selected to serve on the PRB:

Gulf Coast Ecosystem Restoration Council: Walker, Mary S., Executive Director, Mary.Walker@restorethegulf.gov, 504-210-9982

Department of Interior: Blanchard, Mary Josie, Deputy Director, Environmental Protection Compliance, MaryJosie_Blanchard@ios.doi.gov, 202-208-3406

State of Louisiana: Chatellier, Maury, Coastal Protection and Restoration Authority, DWH Oil Spill Program Administrator, Maury.Chatellier@la.gov, 225-342-6504

State of Mississippi: Wells, Chris, Executive Director, Mississippi Department of Environmental Quality, cwells@mdeq.ms.gov, 601-961-5545

Environmental Protection Agency: Wyatt, Marc, Director, Gulf of Mexico Division, Wyatt.marc@epa.gov, 228-679-5915

Keala J. Hughes,
Director of External Affairs & Tribal Relations, Gulf Coast Ecosystem Restoration Council.

[FR Doc. 2023-26909 Filed 12-6-23; 8:45 am]

BILLING CODE 6560-58-P